DEPARTMENT OF ENERGY

Federal Energy Regulatory Commission

[Docket Nos. CP06-365-000; CP06-366-000]

Bradwood Landing, LLC, NorthernStar Energy, LLC; Notice of Public Meetings To Take Comments on the Draft Environmental Impact Statement for the Proposed Bradwood Landing LNG Project

October 5, 2007.

The staff of the Federal Energy Regulatory Commission (FERC or Commission) is issuing this notice to announce a series of public meetings to take comments on the draft Environmental Impact Statement (EIS) issued by the FERC on August 17, 2007, for the proposed Bradwood Landing liquefied natural gas (LNG) Project. The draft EIS addresses the proposal by Bradwood Landing, LLC to construct and operate an LNG import terminal about 38 miles up the Columbia River from its mouth in Clatsop County, Oregon, and the associated 36-mile-long natural gas sendout pipeline proposed by NorthernStar Energy, LLC that would cross portions of Clatsop and Columbia Counties, Oregon, and Cowlitz County, Washington, to connect the Bradwood Landing LNG terminal with the existing Williams Northwest Pipeline Company interstate pipeline system near Kelso, Washington.

The FERC staff produced the draft EIS in cooperation with the U.S. Department of the Army Corps of Engineers, U.S. Department of Homeland Security Coast Guard, and the U.S. Department of Transportation. The draft EIS was delivered to the U.S. Environmental Protection Agency, and mailed to various federal, state, and local government agencies, elected officials, affected landowners, regional environmental organizations, Indian tribes, local libraries and newspapers, intervenors, and other interested parties.

The issuance of the draft EIS was noticed in the Federal Register on August 24, 2007, (72 FR 48629-48631). The deadline for comments on the draft EIS is December 24, 2007. In addition to, or in lieu of, sending in written comments on the draft EIS, the FERC and cooperating agencies invite you to attend the public comment meetings that will be held in Oregon and Washington in November 2007, on the dates, times, and locations listed below.

Date and time | Location
Tuesday, November 6, 2007, 6:30 p.m. to 10 p.m. (PST) | J.A. Wendt Elementary School, 265 S. 3rd St., Cathlamet, Washington 98612, Telephone: 360-795-3261.
Wednesday, November 7, 2007, 9 a.m. to 12 p.m. (PST) | Cowlitz County Expo and Conference Center, 1900 7th Ave., Longview, Washington 98632, Telephone: 360-577-3121.
Wednesday, November 7, 2007, 6:30 p.m. to 10 p.m. (PST) | Cowlitz County Expo and Conference Center, 1900 7th Ave., Longview, Washington 98632, Telephone: 360-577-3121.
Thursday, November 8, 2007, 6:30 p.m. to 10 p.m. (PST) | Hilda Lahti Elementary School, 42535 Old Highway 30, Astoria, Oregon 97103, Telephone: 503-458-6162.

These events are posted on the Commission's calendar located at http://www.ferc.gov/EventCalendar/EventsList.aspx along with other related information. For additional information, please contact the Commission's Office of External Affairs at 1-866-208-FERC.

Kimberly D. Bose,
Secretary.

[FR Doc. E7-20296 Filed 10-15-07; 8:45 am]

BILLING CODE 6717-01-P